CORPORATION FOR NATIONAL AND COMMUNITY SERVICE

Availability of Funds for a National Service-Learning Training and Technical Assistance Provider

AGENCY: Corporation for National and Community Service.

ACTION: Notice of availability of funds.

SUMMARY: The Corporation for National and Community Service (hereinafter the “Corporation”) will use approximately $235,000 as an initial installment on an annual projected funding level of $550,000 to support an organization selected under this Notice for a Learn and Serve America training and technical assistance program. The funding opportunity announced under this Notice will support the initial phase of the agreement (approximately the first five to six months of the year one budget), with additional funding contingent upon need, quality of service, the nature and scope of activities to be supported, and availability of appropriations for this purpose.

The organization selected (the Provider) will, on a national level: (1) Provide training support primarily for Learn and Serve America grantees, sub-grantees, and others; and (2) provide technical assistance and promote service and service-learning. The Corporation intends to enter into a cooperative agreement of up to three years, beginning on or about December 1, 2002.

Note: This is a notice for selection of an organization to provide training and technical assistance to Corporation grantees. This is not a notice for program grant proposals.

DATES: Proposals must be received by the Corporation by 5 p.m. Eastern time on October 21, 2002.

The Corporation will not accept applications that are submitted by facsimile. Due to delays in delivery of regular U.S.P.S. mail to government offices, your application may not arrive in time to be considered. We suggest that you use U.S.P.S. priority mail or a commercial overnight service.

ADDRESSES: Submit proposals to the Corporation for National and Community Service, Attention: Amiko Matsumoto, Room 9611-A, 1201 New York Avenue, NW., Washington, DC 20525.

FOR FURTHER INFORMATION CONTACT: Amiko Matsumoto at the Corporation for National and Community Service, telephone (202) 606-5000, ext. 556, (amatsumoto@cns.gov), facsimile (202) 565-2787, T.D.D. (202) 565-2799. This Notice is available on the Corporation's Web site, at: http://www.nationalservice.org/whatshot/notices. Upon request, this information will be made available in alternate formats for people with disabilities.

SUPPLEMENTARY INFORMATION:

I. Background

The Corporation is a Federal Government corporation that encourages Americans of all ages and backgrounds to engage in national and community service to meet the nation's educational, public safety, environmental and other human needs and to achieve direct and demonstrable results. In doing so, the Corporation fosters civic responsibility, strengthens the ties that bind us together as a people, and provides educational opportunity for those who make a substantial commitment to service. For more information about the Corporation and the activities it supports, go to http://www.nationalservice.org.

II. Learn and Serve America

Learn and Serve America supports service and service-learning programs in schools, higher education institutions, and community organizations that support more than 1.5 million participants from kindergarten through college in meeting community needs while improving their academic skills and learning the habits of good citizenship. Learn and Serve America grants are used to support local collaborative partnerships between educational institutions and community organizations. Funds may be used to create new programs or replicate existing programs, as well as to provide training and professional development to staff, faculty, and volunteers. Most Learn and Serve America grantees make sub-grants to entities such as local education agencies, higher education institutions, and non-profit organizations.

In addition to training and technical assistance, Learn and Serve America also supports the National Service-Learning Clearinghouse and three recognition programs: Presidential Freedom Scholarships, President's Student Service Awards, and National Service-Learning Leader Schools.

III. Conditions

A. Legal Authority

Section 198 of the National and Community Service Act of 1990, as amended, 42 U.S.C. 12653, authorizes the Corporation to provide, directly or through contracts or cooperative agreements, training and technical assistance in support of activities under the national service laws. Section 125 of that Act and titles I and II of the Domestic Volunteer Service Act (42 U.S.C. 4250) provide additional authority.

B. Cooperative Agreement

An award made under this Notice will be in the form of a cooperative agreement. Cooperative agreements are subject to control by Corporation regulations on general administrative requirements, 45 CFR Part 2541 (for agreements with State and local government agencies) and 45 CFR Part 2543 (for agreements with institutions of higher education, non-profit organizations and commercial entities). The Provider must comply with reporting requirements, including submitting semi-annual financial reports and progress reports linking progress on deliverables to expenditures.

Cooperative agreements require substantial involvement on the part of the Corporation. Substantial involvement includes frequent and regular communication with, and monitoring by, the Corporation's program officer. The program officer will confer with the Provider on a regular basis to review project status and service delivery, including work plans, budgets, periodic reports, materials developed, preparation for and implementation of training events, targeting of the Provider's services, and assessment of the Provider's effectiveness.

C. Time Frame

The Corporation expects that activities assisted under the agreement awarded through this Notice will commence on or about December 1, 2002, following the conclusion of the selection and award process.

The Corporation will make an award covering a period not to exceed three years. Applications must include a detailed work plan of proposed activities and a line-item budget for year one of the agreement and note projected changes to proposed activities for years two and three of the award period. If the Corporation approves an application and enters into a multi-year award agreement, initial funding will be provided for approximately the first five months only. Funding for the balance of the first year, and then for the second and third years of an award period, is contingent upon need, quality of service, the nature and scope of activities to be supported, and availability of appropriations for the purpose of the award. The Corporation has no obligation to provide additional funding for the remainder of the first year or in subsequent years.

D. Use of Materials

To ensure that materials generated with Corporation funding for training and technical assistance purposes are available to the public and readily accessible to grantees and sub-grantees, the Corporation reserves a royalty-free, non-exclusive, and irrevocable right to obtain, use, reproduce, publish, or disseminate publications and materials produced under the agreement, including data, and to authorize others to do so. The Provider must agree to make such publications and materials available to the national service field, as identified by the Corporation, at no cost or at the cost of reproduction. All materials developed for the Corporation must be consistent with Corporation editorial and publication guidelines and must be accessible to individuals with disabilities to the extent required by law.

IV. Eligibility

State and local government entities, non-profit organizations, institutions of higher education, Indian tribes, and commercial entities are eligible to apply. Pursuant to the Lobbying Disclosure Act of 1995, an organization described in section 501(c)(4) of the Internal Revenue Code of 1986, 26 U.S.C. 501(c)(4), which engages in lobbying, is not eligible to apply. Organizations that operate or intend to operate Corporation-supported programs are eligible.

The Corporation anticipates making a single award for this purpose. We will consider proposals from single applicants, applicants with sub-agreements, and applicants proposing other approaches that we consider responsive to this Notice.

Organizations may apply to provide training and technical assistance in partnership with organizations seeking other Corporation funds. Based on previous training and technical assistance competitions and our estimate of potential applicants, we expect fewer than ten applications to be submitted.

V. Scope of Training and Technical Assistance Activities To Be Supported: Essential Functions and Deliverables

The purpose of these funds is to build the capacity of Learn and Serve America grantees to assist sub-grantees in developing and implementing high-quality service and service-learning programs at the local level. While sub-grantees are expected to benefit from the activities, the main focus will be on the primary or direct grantees. The majority of workshops should be delivered in a “train the trainer” format, or one that will enable grantees to train their sub-grantees. Any materials created and disseminated under the cooperative agreement should reflect the diverse settings of Learn and Serve America programs—schools, higher education institutions, tribes, and community-based organizations, and partnerships among these, located in urban, rural, and suburban areas. The experience level of service-learning practitioners ranges from novice to seasoned. It is also likely that other Corporation-funded programs, AmeriCorps and Senior Corps programs specifically, as well as the service-learning field in general, will take advantage of the services offered by this training and technical assistance program. All activities should be designed to improve the quality of service-learning programs.

The Corporation is committed to accountability and measuring the performance of all of its grantees. As this Notice pertains to the training of grantees as well as others in the field, the proposal should demonstrate the Provider's understanding of the significance of accountability in grant-funded programs and any prior experience with reporting on outcomes.

The Provider selected under this Notice will provide training services and ongoing technical assistance as well as develop and disseminate training curricula and materials. The Corporation will be identified as the primary sponsor of any developed materials and activities in all print, electronic, and other communications.

A. Training and Technical Assistance Tasks

The Corporation expects the Provider selected under this Notice to engage in the following activities:

1. Training Support

The Provider will design and deliver training programs, curricula, and materials in support of service and service-learning. Topics will range from those generally applicable to all grantees, such as: evaluation; history and civics education; working with faith-based institutions; sustaining your program; building effective partnerships; and consortia management issues, to those designed to address issues specific to each program, such as: K-12 schools (content standards, working with local school boards, transportation and liability); community-based organizations (building capacity to work with service participants, working with schools and higher education institutions); and higher education institutions (promotion and tenure, attracting senior faculty, etc).

A variety of delivery mechanisms beyond or in combination with traditional face-to-face training should be considered, such as telebriefings, teleconferences, webcasts, and videoconferencing. In order to maximize training delivery, training costs may be met by using a combination of provider-held Corporation funds and grantee-expended funds (e.g., cost-sharing between the Provider and grantee). The number and distribution of training activities should establish the Provider as an ongoing, respected presence in the field. Training support will include but not be limited to the following materials and activities:

a. Implementing “train the trainer” and other workshops;

b. Participating as trainers in Learn and Serve America meetings, as well as other national, state-wide, and regional conferences, as appropriate;

c. Developing and disseminating materials to support the foregoing training activities.

2. Technical Assistance and Promotion of Service-Learning

The Provider will develop and maintain materials and systems that identify and respond to the needs of Corporation grantees and the broader service field. Activities include but are not limited to:

a. Develop a Learn and Serve America program director's handbook;

b. Establish, promote, and support Affinity Groups for grantees in areas such as health care, history and civics education, curriculum standards, and/or Historically Black Colleges and Universities, to develop and share information and products for dissemination that further and improve service and service-learning;

c. Develop and distribute materials that correspond with trainings;

d. Build a website that promotes training services and disseminates training and technical assistance tools, to be housed on the National Service-Learning Clearinghouse website and the Corporation's training website;

e. Identify characteristics of successful service and service-learning programs for K-12 youth and higher education based on research and field experience, and incorporate them into a menu of training and technical assistance resources designed to support programs in achieving those characteristics;

f. Operate a toll-free number for inquiries and referrals;

g. Support existing statewide or regional technical assistance efforts;

h. Organize and manage the content of the Learn and Serve America Fall 2003 Grantee Meeting to be held in the Washington, DC metropolitan area.

3. Performance Measurement and Accountability

The Corporation is committed to accountability and the measuring of performance for all its grantees, including training and technical assistance providers. The Providers must develop effective systems to identify the critical outcomes of its work, indicators of its success in this work, and how these can be judged or measured. The Corporation needs tangible information documenting the effectiveness and outcomes of the Provider's work.

In its proposal, the applicant must demonstrate its understanding of accountability in grant-funded programs and its experience in and plans for identifying and reporting on the significant outcomes of its work with programs. Specific performance measures and reporting guidelines will be finalized between the Corporation and the awardee at the time of the award negotiation based on the Corporation's FY 2003 Administrative Guidance.

The Provider will develop a plan to assess the impact of its services for clients. The assessment must be on-going and must be used to inform program planning. It must also encompass immediate as well as long-term training impact. The Provider must submit evaluation summaries and records of evaluations must be available for review. The Corportion may also require an independent assessment of the Provider's performance.

B. Provider Requirements

Upon being awarded funding under this Notice, the Provider must do the following:

1. Ensure Accessibility to Persons With Disabilities

The Provider is responsible for ensuring that all training and technical assistance and resources, including web sites, are accessible to persons with disabilities, as required by law, to include the following:

a. Notify potential participants that reasonable accommodations will be provided upon request;

b. Provide reasonable accommodations when requested to do so, including provision of sign language interpreters, special assistance, and documents in alternate formats;

c. Use accessible locations for training events;

d. Provide training and technical assistance materials that are accessible to persons with disabilities by using accessible technology, providing materials in alternate formats upon request, captioning videos, avoiding non-voice-over formats, and when indicating a telephone number, including a non-voice telephone alternative such as T.D.D. or e-mail.

2. Reporting Requirements

The Provider is responsible for submitting timely progress and financial reports to the Corporation during and at the conclusion of the award period as follows:

a. Semi-Annual Progress Reports. Progress reports must be submitted semi-annually and are due on July 31 for the period ending June 30 and January 31 for the period ending December 31 for each budget period during the cooperative agreement. The Provider must submit this information electronically. The Corporation will provide guidance as to the contents of these reports, to include the agreed upon performance measures.

b. Financial Reports. Financial reports must be submitted semi-annually and must include a summary of expenditures for the period. The reports are cumulative and must be submitted on the Financial Status Report (FSR) form SF 269A.

c. Final Reports. Final reports must be submitted when the program is completed. Guidance for these reports will be provided prior to the end of the agreement.

3. General Requirement of Cooperation and Acceptance of Corporation's Substantial Involvement

We stress to potential applicants that the funding provided under this Notice will be in the form of a cooperative agreement. (See III.B, above) Regular and candid communication with the Corporation's assigned program officer as to the planning of and follow-up assessment of the activities undertaken under the agreement is essential. In this spirit of positive cooperation, the Provider must:

a. Communicate regularly with the program officer and as necessary with other staff or consultants designated by the Corporation training official to exchange views, ideas, and information concerning training and technical assistance.

b. Ensure that Provider staff and consultants are fully versed in the background, approach, vocabulary, assets, needs and objectives of the Corporation as well as each of its programs, with particular emphasis on Learn and Serve America.

c. Participate in the planning and implementation of national meetings and training events, including meetings of all Corporation training and technical assistance providers, as requested by the Corporation.

d. Collaborate in materials development and training events organized by other Providers or the Corporation, as requested.

e. Submit such special reports as may be reasonably requested by the Corporation.

f. Share effective practices with the field and other Providers through Corporation listservs, and other mechanisms, such as the National Service-Learning Clearinghouse and the National Service Resource Center.

g. Use technology creatively and effectively as a cost-effective strategy for reaching large numbers of grantees, sub-grantees, and others in the service-learning field.

VI. Application Guidelines

A. Proposal Content and Submission

Applicants must submit one unbound, original proposal and two bound copies. Proposals may not be submitted by facsimile. You must complete the Standard Form 424 (SF 424)—Application for Federal Assistance, Standard Form 424A (SF 424A)—Budget Forms, and Standard Form 424B (SF 424B)—Assurances. These forms are available on the web at: http://www.nationalservice.org/whatshot/notices. In addition to completing the SF 424, proposals must include the following:

1. Executive Summary

Provide a 250-500 word summary of the proposed training and technical assistance strategy, including and the total amount requested for the year.

2. Training and Technical Assistance Delivery Plan

An organized narrative of no more than 15 double-spaced, single-sided, typed pages in no smaller than 12-point font that includes:

a. Your plan to deliver training and technical assistance to the audiences described in this Notice for year one, with proposed changes (if any) for years two and three. Explain the rationale for your strategy, including why some topics might be delivered via telebriefing or web, while others should be delivered face-to-face. Include a general schedule for training delivery and any existing conferences you would recommend attending in order to deliver grantee training. You should use the specific deliverables and requirements outlined in this Notice as a starting point for a plan and should present these deliverables in a way that creatively reflects your areas of expertise and knowledge of service and service-learning audiences. It is not appropriate to simply re-list the tasks stated in this Notice. The proposed topics to be covered should reflect understanding of the field and its resources. Once awarded, the successful applicant will receive input from Learn and Serve America and its constituents to ensure appropriate topics will be addressed.

b. A plan for regularly evaluating performance and using those findings to continuously improve service to the field.

3. Sample Training Course Outline and Description

Submit a sample description for a training workshop on “Sustaining Service-Learning Programs.” This should be a train-the-trainer workshop that will give primary grantees the tools to support their local programs' sustainability efforts. A follow-up plan should be included as well as an evaluation plan for this training.

4. Technology Strategy

Provide a one to two page description that proposes ways to use technology effectively in order to broaden the reach of training and technical assistance delivery. The description should include the target audience, proposed use of technology, rationale for approach and its role in the overall plan, and how the strategy's effectiveness will be evaluated.

5. Organizational Capacity

Include a narrative of no more than three double-spaced, single-sided, typed pages in no smaller than 12-point font that describes:

a. The organization's capacity to provide service and service-learning training and technical assistance services nationwide, including descriptions of recent work similar to that being proposed;

b. The organization's knowledge of and/or experience with service and/or service-learning programs;

c. A list of proposed staff, and sub-agreement holders if appropriate, with areas of expertise.

6. Appendices

In the appendix, include:

a. an organizational chart that clearly shows the relationship of the training and technical assistance Provider(s) to the overall structure of the legal applicant to this Notice;

b. names and contact information of references that can be contacted with regard to the above work;

c. a detailed one-year work plan and timeline for completing all training and technical assistance activities (the work plan should include all deliverables and the tasks leading to them); and

d. résumés of the individuals primarily responsible for the deliverables proposed in the application.

e. You may submit one additional appendix, but no videos or CDROMs.

7. Budget

Your budget must be submitted on a Standard Form 424A (SF 424A)—Budget Form. Costs in proposed budgets must consist solely of costs allowable under applicable cost principles found in OMB Circulars (OMB Circular A-87 for state and local governments, A-121 for non-profit organizations and A-21 for institutions of higher learning, and in F.A.R. Part 31 for commercial entities). Applicants should be mindful that a demonstrated commitment to providing services in the most cost-effective manner possible will be a major consideration in the evaluation of proposals. Provider match is not required.

8. Budget Narrative

Note: While this notice is for the availability of funds to cover approximately the first five to six months of the year one budget, the budget you submit should be based on the first year of activities. Provide a budget narrative that corresponds with all items in the line-item budget and that includes an explanation and cost basis for all cost estimates that appear in the line-item budget. The narrative should clearly show the following:

a. How each cost was derived, using equations to reflect all factors considered.

b. The anticipated unit cost (with derivation) of the various deliverables (such as training events, publications and technical assistance interventions).

B. Selection Criteria

To ensure fairness to all applicants, the Corporation reserves the right to take remedial action, up to and including disqualification, in the event a proposal fails to comply with the requirements relating to page limits, line spacing, and font size. The Corporation will assess applications based on the criteria listed below.

1. Quality (35%)

The Corporation will consider the quality of the proposed activities based on:

a. Evidence of the applicant's knowledge and understanding of the role of national and community service and service-learning, and the role of training and technical assistance in supporting this program.

b. The appropriateness for the audience: quality of delivery strategy (for example, breadth of audience and potential for the activity to build grantee capacity); potential for effectiveness; creativity of the applicant's approach and work plan; and evidence of the applicant's knowledge of adult learning and experience in training adults.

2. Organizational and Personnel Capacity (35%)

The Corporation will consider the organizational capacity of the applicant to deliver the proposed services based on:

a. Evidence of the organization's experience in delivering high-quality training and technical assistance in a flexible, responsive, collaborative and creative manner, and experience using technology as a teaching tool.

b. Evidence of experience providing training and technical assistance on the part of the proposed staff and consultants as demonstrated by annotated staff lists or résumés.

c. Demonstrated ability to provide training and technical assistance services nationwide as evidenced by proposed technology plan, proposed staffing and previous levels of activity and experience.

d. Demonstrated ability to manage a federal grant or apply sound fiscal management principles to grants and cost accounting as evidenced by an annotated list of applicant's previous grants experience.

3. Performance Measurement (15%)

The Corporation will consider how the applicant:

a. Proposes to assess the effectiveness and need for its services and products delivered under the award.

b. Plans to use assessments of its services and products to modify and improve subsequent services and products.

c. Proposes to measure both short term outputs of its performance and the long-term outcomes.

4. Budget (15%)

The Corporation will consider the budget based on:

a. Scope and cost-effectiveness of the proposed training and technical assistance activities in relation to the scope and depth of the services proposed (i.e., the number of Learn and Serve America grantees that the proposed activities are expected to reach and the degree to which the Provider provides a reasonable estimate of the amount of services the organization will be able to provide);

b. The clarity and thoroughness of the budget and budget narrative (see specifications under “Budget Narrative”).

VII. For Additional Information

For additional information, please visit the following Web sites:

• Corporation for National and Community Service: http://www.nationalservice.org

• National Service-Learning Clearinghouse: http://www.servicelearning.org

• Presidential Freedom Scholarships: http://www.nationalservice.org/scholarships/index.html

• President's Student Service Awards: http://www.student-service-awards.org/

• National Service-Learning Leader Schools: http://www.leaderschools.org/ CFDA No. 94.009 Training and Technical Assistance

Dated: August 28, 2002.
Amy Cohen,
Director, Learn and Serve America.

[FR Doc. 02-22564 Filed 9-4-02; 8:45 am]

BILLING CODE 6050-$$-P